DEPARTMENT OF TRANSPORTATION

Federal Aviation Administration

14 CFR Part 39

[Docket No. FAA-2017-0627; Product Identifier 2017-NM-037-AD; Amendment 39-19127; AD 2017-25-13]

RIN 2120-AA64

Airworthiness Directives; Airbus Airplanes

AGENCY: Federal Aviation Administration (FAA), Department of Transportation (DOT).

ACTION: Final rule.

SUMMARY: We are adopting a new airworthiness directive (AD) for all Airbus Model A330-200 Freighter, -200, and -300 series airplanes; and Airbus Model A340-200, -300, -500, and -600 series airplanes. This AD was prompted by a report that the trimmable horizontal stabilizer actuator (THSA) might not function as intended after failure of the primary load path. This AD requires repetitive detailed visual inspections for discrepancies of the THSA upper attachments and no-back housing. We are issuing this AD to address the unsafe condition on these products.

DATES: This AD is effective January 22, 2018.

The Director of the Federal Register approved the incorporation by reference of certain publications listed in this AD as of January 22, 2018.

ADDRESSES: For service information identified in this final rule, contact Airbus SAS, Airworthiness Office—EAL, 1 Rond Point Maurice Bellonte, 31707 Blagnac Cedex, France; telephone: +33 5 61 93 36 96; fax: +33 5 61 93 45 80; email: airworthiness.A330-A340@airbus.com; internet: http://www.airbus.com. You may view this referenced service information at the FAA, Transport Standards Branch, 1601 Lind Avenue SW, Renton, WA. For information on the availability of this material at the FAA, call 425-227-1221. It is also available on the internet at http://www.regulations.gov by searching for and locating Docket No. FAA-2017-0627.

Examining the AD Docket

You may examine the AD docket on the internet at http://www.regulations.gov by searching for and locating Docket No. FAA-2017-0627; or in person at the Docket Management Facility between 9 a.m. and 5 p.m., Monday through Friday, except Federal holidays. The AD docket contains this AD, the regulatory evaluation, any comments received, and other information. The street address for the Docket Office (telephone: 800-647-5527) is Docket Management Facility, U.S. Department of Transportation, Docket Operations, M-30, West Building Ground Floor, Room W12-140, 1200 New Jersey Avenue SE, Washington, DC 20590.

FOR FURTHER INFORMATION CONTACT: Vladimir Ulyanov, Aerospace Engineer, International Section, Transport Standards Branch, FAA, 1601 Lind Avenue SW, Renton, WA 98057-3356; telephone: 425-227-1138; fax: 425-227-1149.

SUPPLEMENTARY INFORMATION:

Discussion

We issued a notice of proposed rulemaking (NPRM) to amend 14 CFR part 39 by adding an AD that would apply to all Airbus Model A330-200 Freighter, -200, and -300 series airplanes; and Airbus Model A340-200, -300, -500, and -600 series airplanes. The NPRM published in the Federal Register on June 30, 2017 (82 FR 29795) (“the NPRM”). The NPRM was prompted by a report that the THSA might not function as intended after failure of the primary load path. The NPRM proposed to require repetitive detailed visual inspections for discrepancies of the THSA upper attachments and no-back housing. We are issuing this AD to detect and correct discrepancies of the THSA upper attachments and no-back housing, which could lead to THSA upper attachment failure and consequent disconnection of the THSA from the airplane structure, possibly resulting in loss of control of the airplane.

The European Aviation Safety Agency (EASA), which is the Technical Agent for the Member States of the European Union, has issued EASA AD 2017-0044, dated March 9, 2017 (referred to after this as the Mandatory Continuing Airworthiness Information, or “the MCAI”), to correct an unsafe condition for all Airbus Model A330-200 Freighter, -200 and -300 series airplanes; and Airbus Model A340-200, -300, -500, and -600 series airplanes. The MCAI states:

The Trimmable Horizontal Stabilizer Actuator (THSA), as installed on A330 and A340 aeroplanes, was initially designed to stall when engaging on the upper secondary load path (SLP) after primary load path (PLP) failure. Such stall triggers system monitoring detection. New mission profile analysis revealed that in some cases, the THSA could be operated while engaged on the upper SLP without stalling [i.e., the THSA might not function as intended after failure of the primary load path]. The partial engagement of the SLP at upper attachment level does not trigger any indication to the flight crew.

This condition, if not detected and corrected, could lead to THSA upper attachment failure and consequent disconnection of the THSA from the aeroplane structure, possibly resulting in loss of control of the aeroplane.

For the reasons described above, this [EASA] AD requires repetitive detailed [visual] inspections (DET) of the upper THSA attachments parts and the PLP and SLP fuselage attachment points, and, depending on findings (which include, but are not limited to, failure of the primary load path), accomplishment of applicable [additional inspections for discrepancies and] corrective action(s).

The additional inspections include a detailed visual inspection for discrepancies of the upper attachment fitting of the airplane and a detailed visual inspection for discrepancies of the removed THSA. Corrective actions include repair and replacement of the THSA. You may examine the MCAI in the AD docket on the internet at http://www.regulations.gov by searching for and locating Docket No. FAA-2017-0627.

Comments

We gave the public the opportunity to participate in developing this AD. The following presents the comments received on the NPRM and the FAA's response.

Support for the NPRM

The Air Line Pilots Association, International (ALPA), expressed its support for the NPRM.

Request To Delay Publication of the Final Rule or Note Discrepancy in Service Information

Delta Airlines (DAL) requested that we delay publication of the final rule or include information regarding a discrepancy found in Airbus Service Bulletin A330-27-3218, Revision 01, dated December 5, 2016, which specifies to use Aircraft Maintenance Manual (AMM) task 27-44-00-210-805. However, AMM task 27-44-00-210-805 is missing from the A330 AMM revision dated July 1, 2017. DAL preferred to avoid the need for an alternative method of compliance (AMOC) to accomplish the tasks required by Airbus Service Bulletin A330-27-3218, Revision 01, dated December 5, 2016. DAL also contacted Airbus regarding this issue.

We disagree with the request to delay this final rule. We also disagree that information regarding the discrepancy should be specifically included. Although Airbus Service Bulletin A330-27-3218, Revision 01, dated December 5, 2016, specifies to use AMM task 27-44-00-210-805, the service information also includes information to perform a detailed visual inspection using SUBTASK 273218-832-001-001 if AMM task 27-44-00-210-805 is unavailable. Therefore, no changes to this AD are necessary regarding this issue.

Conclusion

We reviewed the relevant data, considered the comments received, and determined that air safety and the public interest require adopting this AD as proposed except for minor editorial changes. We have determined that these minor changes:

• Are consistent with the intent that was proposed in the NPRM for correcting the unsafe condition; and

• Do not add any additional burden upon the public than was already proposed in the NPRM.

Related Service Information Under 1 CFR Part 51

Airbus has issued the following service information.

• Airbus Service Bulletin A330-27-3218, Revision 01, dated December 5, 2016.

• Airbus Service Bulletin A340-27-4203, Revision 01, dated December 5, 2016.

• Airbus Service Bulletin A340-27-5067, Revision 01, dated December 5, 2016.

This service information describes procedures for detailed visual inspections for discrepancies of the THSA upper attachments and no-back housing, additional inspections for discrepancies, and corrective actions. These documents are distinct since they apply to different airplane models. This service information is reasonably available because the interested parties have access to it through their normal course of business or by the means identified in the ADDRESSES section.

Costs of Compliance

We estimate that this AD affects 102 airplanes of U.S. registry.

We estimate the following costs to comply with this AD:

Estimated Costs
Action | Labor cost | Parts cost | Cost per product | Cost on U.S. operators
Inspection | 3 work-hours × $85 per hour = $255 per inspection cycle | $0 | $255 per inspection cycle | $26,010 per inspection cycle.

We estimate the following costs to do any necessary replacements that would be required based on the results of the required inspection. We have no way of determining the number of aircraft that might need these replacements:

On-Condition Costs
Action | Labor cost | Parts cost | Cost per product
Replacement | 20 work-hours × $85 per hour = $1,700 | $734,661 | $736,361

We have received no definitive data that would enable us to provide cost estimates for other on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-25-13 Airbus: Amendment 39-19127; Docket No. FAA-2017-0627; Product Identifier 2017-NM-037-AD.

(a) Effective Date

This AD is effective January 22, 2018.

(b) Affected ADs

None.

(c) Applicability

This AD applies to Airbus Model A330-201, -202, -203, -223, -223F, -243, -243F, -301, -302, -303, -321, -322, -323, -341, -342 and -343 airplanes; and Airbus Model A340-211, -212, -213, -311, -312, -313, -541, and -642 airplanes; certificated in any category, all manufacturer's serial numbers.

(d) Subject

Air Transport Association (ATA) of America Code 27, Flight Controls.

(e) Reason

This AD was prompted by a report that the trimmable horizontal stabilizer actuator (THSA) might not function as intended after failure of the primary load path. We are issuing this AD to detect and correct discrepancies of the THSA upper attachments and no-back housing, which could lead to THSA upper attachment failure and consequent disconnection of the THSA from the airplane structure, possibly resulting in loss of control of the airplane.

(f) Compliance

Comply with this AD within the compliance times specified, unless already done.

(g) Repetitive Detailed Visual Inspections

Before exceeding the threshold in Table 1 to paragraph (g) of this AD, as applicable, or within 3 months after the effective date of this AD, whichever occurs later; and thereafter at intervals not to exceed the inspection interval values defined in Table 1 to paragraph (g) of this AD; accomplish a detailed visual inspection for discrepancies of the THSA upper attachments and no-back housing, in accordance with the Accomplishment Instructions of Airbus Service Bulletin A330-27-3218, Revision 01, A340-27-4203, Revision 01, or A340-27-5067, Revision 01, all dated December 5, 2016, as applicable. Where the “Threshold” column of table 1 to paragraph (g) of this AD specifies compliance times in “FH” (flight hours) or “FC” (flight cycles), those compliance times are flight hours or flight cycles since the first flight of the airplane, or since the last accomplishment of Airbus Model A330 or A340 Maintenance Review Board Report task 27.40.00/07, or since the last detailed visual inspection of the THSA done in accordance with the Accomplishment Instructions of Airbus Service Bulletin A330-27-3218, Revision 00, A340-27-4203, Revision 00, or A340-27-5067, Revision 00, all dated July 1, 2016, as applicable.

Table 1 to Paragraph (g) of This AD—THSA Upper Attachments/No-Back Housing Inspections
Affected airplanes | Compliance times (whichever occurs first, flight hours (FH) or flight cycles (FC)): Threshold | Compliance times (whichever occurs first, flight hours (FH) or flight cycles (FC)): Inspection interval (not to exceed)
A330, A340-200 and A340-300 | Before 4,000 FH or 1,000 FC | 4,000 FH or 1,000 FC
A340-500 and A340-600 | Before 4,000 FH or 800 FC | 4,000 FH or 800 FC

(h) Additional Inspections and Corrective Actions

(1) If, during any inspection required by paragraph (g) of this AD, any discrepancy identified in the Accomplishment Instructions of Airbus Service Bulletin A330-27-3218, Revision 01, A340-27-4203, Revision 01, or A340-27-5067, Revision 01, all dated December 5, 2016, as applicable, is detected, before further flight, remove the THSA, and accomplish a detailed visual inspection for discrepancies of the upper attachment fitting of the airplane and a detailed visual inspection for discrepancies of the removed THSA, in accordance with the Accomplishment Instructions of Airbus Service Bulletin A330-27-3218, Revision 01, A340-27-4203, Revision 01, or A340-27-5067, Revision 01, all dated December 5, 2016, as applicable. As an alternative to the removed THSA inspections required by this paragraph, before further flight, replace the THSA with a serviceable part (as defined in paragraph (i) of this AD).

(2) If, during any inspection of the upper attachment fitting of the airplane required by paragraph (h)(1) of this AD, any discrepancy identified in the Accomplishment Instructions of Airbus Service Bulletin A330-27-3218, Revision 01, A340-27-4203, Revision 01, or A340-27-5067, Revision 01, all dated December 5, 2016, as applicable, is detected, before further flight, repair using a method approved in accordance with the procedures specified in paragraph (k)(2) of this AD.

(3) If, during any inspection of the removed THSA required by paragraph (h)(1) of this AD, no discrepancy specified in the Accomplishment Instructions of Airbus Service Bulletin A330-27-3218, Revision 01, A340-27-4203, Revision 01, or A340-27-5067, Revision 01, all dated December 5, 2016, as applicable, is detected, before further flight, reinstall the THSA, in accordance with the Accomplishment Instructions of Airbus Service Bulletin A330-27-3218, Revision 01, A340-27-4203, Revision 01, or A340-27-5067, Revision 01, all dated December 5, 2016, as applicable.

(4) If, during any inspection of the removed THSA required by paragraph (h)(1) of this AD, any discrepancy specified in the Accomplishment Instructions of Airbus Service Bulletin A330-27-3218, Revision 01, A340-27-4203, Revision 01, or A340-27-5067, Revision 01, all dated December 5, 2016, as applicable, is detected, before further flight, replace the THSA with a serviceable part (as defined in paragraph (i) of this AD), in accordance with the Accomplishment Instructions of Airbus Service Bulletin A330-27-3218, Revision 01, A340-27-4203, Revision 01, or A340-27-5067, Revision 01, all dated December 5, 2016, as applicable.

(i) Definition of Serviceable THSA

For the purpose of this AD, a serviceable THSA is a part that has accumulated less than 4,000 FH or 1,000 FC (for Airbus Model A330, A340-200, or A340-300 airplanes) or 4,000 FH or 800 FC (for Airbus Model A340-500 or A340-600 airplanes), whichever occurs first since the first flight of the airplane, or since the last overhaul of the THSA, or since the last detailed visual inspection of the THSA in accordance with the Accomplishment Instructions of Airbus Service Bulletin A330-27-3218, Revision 01, A340-27-4203, Revision 01, or A340-27-5067, Revision 01, all dated December 5, 2016, as applicable.

(j) Credit for Previous Actions

This paragraph provides credit for actions required by paragraphs (g), (h)(1), (h)(3), and (h)(4) of this AD, if those actions were performed before the effective date of this AD using the service information specified in paragraph (j)(1), (j)(2), or (j)(3) of this AD, as applicable.

(1) Airbus Service Bulletin A330-27-3218, Revision 00, dated July 1, 2016.

(2) Airbus Service Bulletin A340-27-4203, Revision 00, dated July 1, 2016.

(3) Airbus Service Bulletin A340-27-5067, Revision 00, dated July 1, 2016.

(k) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (l)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the European Aviation Safety Agency (EASA); or Airbus's EASA Design Organization Approval (DOA). If approved by the DOA, the approval must include the DOA-authorized signature.

(3) Required for Compliance (RC): Except as required by paragraph (h)(2) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(l) Related Information

(1) Refer to Mandatory Continuing Airworthiness Information (MCAI) EASA AD 2017-0044, dated March 9, 2017, for related information. This MCAI may be found in the AD docket on the internet at http://www.regulations.gov by searching for and locating Docket No. FAA-2017-0627.

(2) For more information about this AD, contact Vladimir Ulyanov, Aerospace Engineer, International Section, Transport Standards Branch, FAA, 1601 Lind Avenue SW, Renton, WA 98057-3356; telephone: 425-227-1138; fax: 425-227-1149.

(3) Service information identified in this AD that is not incorporated by reference is available at the addresses specified in paragraphs (m)(3) and (m)(4) of this AD.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A330-27-3218, Revision 01, dated December 5, 2016.

(ii) Airbus Service Bulletin A340-27-4203, Revision 01, dated December 5, 2016.

(iii) Airbus Service Bulletin A340-27-5067, Revision 01, dated December 5, 2016.

(3) For service information identified in this AD, contact Airbus SAS, Airworthiness Office—EAL, 1 Rond Point Maurice Bellonte, 31707 Blagnac Cedex, France; telephone: +33 5 61 93 36 96; fax: +33 5 61 93 45 80; email: airworthiness.A330-A340@airbus.com; internet: http://www.airbus.com.

(4) You may view this service information at the FAA, Transport Standards Branch, 1601 Lind Avenue SW, Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on December 5, 2017.
Dionne Palermo,
Acting Director, System Oversight Division, Aircraft Certification Service.

[FR Doc. 2017-26837 Filed 12-15-17; 8:45 am]

BILLING CODE 4910-13-P